DEPARTMENT OF THE INTERIOR

Bureau of Land Management

[MT-926-04-1420-BJ]

Montana: Filing of Plat of Amended Protraction Diagram

AGENCY: Bureau of Land Management, Montana State Office, Interior.

ACTION: Notice of filing of plat of amended protraction diagram.

SUMMARY: The Bureau of Land Management (BLM) will file the plat of the amended protraction diagram of the lands described below in the BLM Montana State Office, Billings, Montana, (30) days from the date of publication in the Federal Register.

FOR FURTHER INFORMATION CONTACT: Robert L. Brockie, Cadastral Surveyor, Branch of Cadastral Survey, Bureau of Land Management, 5001 Southgate Drive, P.O. Box 36800, Billings, Montana 59107-6800, telephone (406) 896-5125 or (406) 896-5009.

SUPPLEMENTARY INFORMATION: The amended protraction diagram was prepared at the request of the U.S. Forest Service and is necessary to accommodate Revision of Primary Base Quadrangle Maps for the Geometronics Service Center.

The lands for the prepared amended protraction diagram are:

Principal Meridian, Montana

Tps. 33, 34, 35, 36, and 37 N., Rs. 17, 18, 19, and 20 W.

The plat, representing the Amended Protraction Diagram 46 Index of unsurveyed Townships 33, 34, 35, 36, and 37 North, Ranges 17, 18, 19, and 20 West, Principal Meridian, Montana, was accepted April 30, 2004.

T. 33 N., R. 17 W.

The plat, representing Amended Protraction Diagram 46 of unsurveyed Township 33 North, Range 17 West, Principal Meridian, Montana, was accepted April 30, 2004.

T. 33 N., R. 18 W.

The plat, representing Amended Protraction Diagram 46 of unsurveyed Township 33 North, Range 18 West, Principal Meridian, Montana, was accepted April 30, 2004.

T. 33 N., R. 19 W.

The plat, representing Amended Protraction Diagram 46 of unsurveyed Township 33 North, Range 19 West, Principal Meridian, Montana, was accepted April 30, 2004.

T. 33 N., R. 20 W.

The plat, representing Amended Protraction Diagram 46 of unsurveyed Township 33 North, Range 20 West, Principal Meridian, Montana, was accepted April 30, 2004.

T. 34 N., R. 17 W.

The plat, representing Amended Protraction Diagram 46 of unsurveyed Township 34 North, Range 17 West, Principal Meridian, Montana, was accepted April 30, 2004.

T. 34 N., R. 18 W.

The plat, representing Amended Protraction Diagram 46 of unsurveyed Township 34 North, Range 18 West, Principal Meridian, Montana, was accepted April 30, 2004.

T. 34 N., R. 19 W.

The plat, representing Amended Protraction Diagram 46 of unsurveyed Township 34 North, Range 19 West, Principal Meridian, Montana, was accepted April 30, 2004.

T. 34 N., R. 20 W.

The plat, representing Amended Protraction Diagram 46 of unsurveyed Township 34 North, Range 20 West, Principal Meridian, Montana, was accepted April 30, 2004.

T. 35 N., R. 17 W.

The plat, representing Amended Protraction Diagram 46 of unsurveyed Township 35 North, Range 17 West, Principal Meridian, Montana, was accepted April 30, 2004.

T. 35 N., R. 18 W.

The plat, representing Amended Protraction Diagram 46 of unsurveyed Township 35 North, Range 18 West, Principal Meridian, Montana, was accepted April 30, 2004.

T. 35 N., R. 19 W.

The plat, representing Amended Protraction Diagram 46 of unsurveyed Township 35 North, Range 19 West, Principal Meridian, Montana, was accepted April 30, 2004.

T. 35 N., R. 20 W.

The plat, representing Amended Protraction Diagram 46 of unsurveyed Township 35 North, Range 20 West, Principal Meridian, Montana, was accepted April 30, 2004.

T. 36 N., R. 17 W.

The plat, representing Amended Protraction Diagram 46 of unsurveyed Township 36 North, Range 17 West, Principal Meridian, Montana, was accepted April 30, 2004.

T. 36 N., R. 18 W.

The plat, representing Amended Protraction Diagram 46 of unsurveyed Township 36 North, Range 18 West, Principal Meridian, Montana, was accepted April 30, 2004.

T. 36 N., R. 19 W.

The plat, representing Amended Protraction Diagram 46 of unsurveyed Township 36 North, Range 19 West, Principal Meridian, Montana, was accepted April 30, 2004.

T. 36 N., R. 20 W.

The plat, representing Amended Protraction Diagram 46 of unsurveyed Township 36 North, Range 20 West, Principal Meridian, Montana, was accepted April 30, 2004.

T. 37 N., R. 17 W.

The plat, representing Amended Protraction Diagram 46 of unsurveyed Township 37 North, Range 17 West, Principal Meridian, Montana, was accepted April 30, 2004.

T. 37 N., R. 18 W.

The plat, representing Amended Protraction Diagram 46 of unsurveyed Township 37 North, Range 18 West, Principal Meridian, Montana, was accepted April 30, 2004.

T. 37 N., R. 19 W.

The plat, representing Amended Protraction Diagram 46 of unsurveyed Township 37 North, Range 19 West, Principal Meridian, Montana, was accepted April 30, 2004.

T. 37 N., R. 20 W.

The plat, representing Amended Protraction Diagram 46 of unsurveyed Township 37 North, Range 20 West, Principal Meridian, Montana, was accepted April 30, 2004.

We will place a copy of the plat of the amended protraction diagram we described in the open files. It will be available to the public as a matter of information.

If BLM receives a protest against this amended protraction diagram, as shown on this plat, prior to the date of the official filing, we will stay the filing pending our consideration of the protest.

We will not officially file this plat of the amended protraction diagram until the day after we have accepted or dismissed all protests and they have become final, including decisions or appeals.

Dated: May 4, 2004.
Steven G. Schey,
Acting Chief Cadastral Surveyor, Division of Resources.

[FR Doc. 04-10905 Filed 5-13-04; 8:45 am]

BILLING CODE 4310-$$-P